DEPARTMENT OF COMMERCE

National Oceanic and Atmospheric Administration

[I.D. 040601G]

Endangered and Threatened Species; Take of Anadromous Fish

AGENCY: National Marine Fisheries Service (NMFS), National Oceanic and Atmospheric Administration (NOAA), Commerce.

ACTION: Notice of availability and request for comment.

SUMMARY: NMFS received an application for modification 1 of incidental take permit 1233 (Permit) from the Idaho Department of Fish and Game(IDFG) pursuant to the Endangered Species Act of 1973, as amended (ESA). As required by the ESA, IDFG’s modification application includes a conservation plan (Plan) designed to minimize and mitigate any such take of endangered or threatened species. The Permit modification application is for the incidental take of ESA-listed adult and juvenile salmonids associated with otherwise lawful recreational fisheries on non-listed species in the Snake River and its tributaries in the State of Idaho. The duration of the existing Permit and Plan is 5 years, expiring on December 31, 2004. NMFS also announces the availability of a draft Environmental Assessment (EA) for the Permit modification application. This document serves to notify the public of the availability for comment of the permit modification application and the associate draft EA. All comments received will become part of the public record and will be available for review pursuant to the ESA.

DATES: Written comments on the Permit modification application, Plan, and draft EA must be received no later than 5 p.m. Pacific standard time on May 16, 2001.

ADDRESSES: Written comments and requests for copies of the application, Plan, or draft EA should be addressed to Herbert Pollard, Sustainable Fisheries Division, 10215 West Emerald Street, Suite 180, Boise, ID 83704. Comments may also be sent via fax to (208) 378-5699. Comments will not be accepted if submitted via e-mail or the internet. Comments received will also be available for public inspection, by appointment, during normal business hours by calling (208) 378-5614.

FOR FURTHER INFORMATION CONTACT: Herbert Pollard, Boise, ID, at phone number: (208) 378-5614, fax: (208) 378-5699, or e-mail: Herbert.Pollard@noaa.gov

SUPPLEMENTARY INFORMATION: This notice is relevant to the Snake River spring/summer chinook salmon (Oncorhynchus tshawytscha), Snake River fall chinook salmon (O. tshawytscha), Snake River sockeye salmon (O. nerka), and Snake River steelhead (O. mykiss) ESUs.

Background

On May 26, 2000, NMFS issued permit 1233 to Idaho for conduct of recreational fisheries managed by IDFG during 2001 through 2004 on non-listed species in the Snake River and its tributaries in the State of Idaho. Permit 1233 authorizes IDFG an incidental take of adult and juvenile, threatened, naturally produced Snake River spring/summer chinook salmon (Oncorhynchus tshawytscha), adult and juvenile, threatened, naturally produced Snake River fall chinook salmon (Oncorhynchus tshawytscha), and adult and juvenile, threatened, naturally produced Snake River sockeye salmon (Oncorhynchus nerka) in recreational fisheries managed by the State of Idaho.

IDFG requests a modification to permit 1233 to modify timing of currently authorized fisheries, to expand currently authorized fishing areas, and to include authorization of take of listed steelhead. The fishery area in the Clearwater River would be expanded to include the South Fork Clearwater River. The fishery area in the Little Salmon River would be expanded from the current 4 mi (6.4 km) upstream to approximately 25 mi (40.2 km). Two additional areas would be opened for chinook fishing: The Salmon River from its mouth 30 mi (48.3 km) upstream to the mouth of the Little Salmon River, and approximately 60 mi (96.6 km) of the Snake River from the mouth of the Imnaha River upstream to Hells Canyon Dam. For modification 1, IDFG also requests an additional incidental take of adult, threatened, Snake River spring/summer chinook salmon associated with the requested expanded and additional fishery areas.

IDFG also requests authorization for take of adult, threatened, naturally produced Snake River steelhead incidental to the currently authorized fisheries and the requested modification.At the time permit 1233 was originally issued, protective regulations for threatened Snake River steelhead under section 4(d) of the ESA had not been promulgated by NMFS. Protective regulations were subsequently issued (July 10, 2000, 65 FR 42422). When NMFS issued the current permit, impacts of the proposed fisheries to listed Snake River steelhead were assessed in a biological opinion, and NMFS determined that the fisheries would not jeopardize the continued existence of threatened Snake River steelhead. The proposed modification would authorize levels of take consistent with that analysis and opinion.

In its Plan, IDFG is proposing to limit state recreational fisheries such that the incidental impacts on ESA-listed salmonids will be minimized. Three alternatives for the IDFG fisheries are provided in the Plan: (1) The no action alternative; (2) the proposed conservation plan alternative (based on continuing fisheries at levels similar to those permitted since 1995); and (3) historic fishing levels.

Environmental Assessment/finding of No Significant Impact

The EA package includes a draft EA and a draft Finding of No Significant Impact which concludes that issuing the modification to the incidental take permit is not a major Federal action significantly affecting the quality of the human environment, within the meaning of section 102(2)(C) of the National Environmental Policy Act (NEPA) of 1969, as amended. Three Federal action alternatives have been analyzed in the draft EA: (1) The no action alternative; (2) issue a permit without conditions; and (3) issue a permit with conditions.

This notice is provided pursuant to section 10(c) of the ESA and the NEPA regulations (40 CFR 1506.6). NMFS will evaluate the application, associated documents, and comments submitted thereon to determine whether the application meets the requirements of the NEPA regulations and section 10(a) of the ESA. If it is determined that the requirements are met, a modified permit will be issued for incidental takes of ESA-listed anadromous salmonids under the jurisdiction of NMFS. The final NEPA and permit determinations will not be completed until after the end of the 30-day comment period and will fully consider all public comments received during the comment period. NMFS will publish a record of its final action in the Federal Register.

Dated: April 10, 2001.
Karen Salvini,
Acting Chief, Endangered Species Division, Office of Protected Resources, National Marine Fisheries Service.

[FR Doc. 01-9266 Filed 4-13-01; 8:45 am]

BILLING CODE 3510-22-S